DEPARTMENT OF ENERGY

Western Area Power Administration

Central Valley Project, California-Oregon Transmission Project, Pacific Alternating Current Intertie, and Information on the Path 15 Transmission Upgrade-Rate Order No. WAPA-173

AGENCY: Western Area Power Administration, DOE.

ACTION: Notice of Proposed Extension of Power, Transmission, and Ancillary Services Formula Rates.

SUMMARY: The Western Area Power Administration (Western), a power marketing administration within the U.S. Department of Energy (DOE), proposes to extend the existing Central Valley Project power, transmission, and ancillary services formula rates, California-Oregon Transmission Project transmission formula rate, Pacific Alternating Current Intertie transmission formula rate, and third-party transmission service formula rate through September 30, 2019. The existing Rate Schedules CV-F13, CPP-2, CV-T3, CV-NWT5, COTP-T3, PACI-T3, CV-TPT7, CV-UUP1, CV-SPR4, CV-SUR4, CV-RFS4, CV-EID4, and CV-GID1 expire on September 30, 2016.

DATES: A consultation and comment period starts with the publication of this notice and will end on September 24, 2015. Western will accept written comments any time during the consultation and comment period.

ADDRESSES: Send written comments to: Mr. Subhash Paluru, Regional Manager, or Ms. Regina Rieger, Rates Manager, Sierra Nevada Region, Western Area Power Administration, 114 Parkshore Drive, Folsom, CA 95630-4710; or email comments to SNR-Rates@wapa.gov. All documents that Western used to develop this proposed rate extension are available for inspection and copying at the Sierra Nevada Region, located at 114 Parkshore Drive, Folsom, CA 95630-4710.

FOR FURTHER INFORMATION CONTACT: Ms. Regina Rieger, Rates Manager, Sierra Nevada Region, Western Area Power Administration, 114 Parkshore Drive, Folsom, CA 95630-4710, telephone (916) 353-4629, email rieger@wapa.gov.

SUPPLEMENTARY INFORMATION: Western proposes to extend the current rate schedules through September 30, 2019. A three-year formula rate extension followed by a five-year formula rate adjustment process will align with the end of the 2004 Power Marketing Plan, allowing Western time to review existing formula rate methodologies, solicit input from its customers and other interested parties, and determine whether revisions to those methodologies are warranted. The existing rates provide sufficient revenue to repay all annual expenses, including interest expense, and to repay capital investments within the allowable periods, thus ensuring repayment within the cost recovery criteria set forth in DOE Order RA 6120.2.

By Delegation Order No. 00-037.00A, effective October 25, 2013, the Secretary of Energy delegated: (1) The authority to develop power and transmission rates to Western's Administrator; (2) the authority to confirm, approve, and place such rates into effect on an interim basis to the Deputy Secretary of Energy; and (3) the authority to confirm, approve, and place into effect on a final basis, to remand, or to disapprove such rates to the Federal Energy Regulatory Commission (FERC).

FERC confirmed and approved the existing formula rates defined in Rate Schedules CV-F13, CPP-2, CV-T3, CV-NWT5, COTP-T3, PACI-T3, CV-TPT7, CV-UUP1, CV-SPR4, CV-SUR4, CV-RFS4, CV-EID4, and CV-GID1, filed under Rate Order No. WAPA-156,¹ on a final basis for five years through September 30, 2016.² In accordance with 10 CFR 903.23(a), Western proposes to extend the existing power, transmission, and ancillary services formula rates without an adjustment. The rates and revenue requirements resulting from the approved formula rate methodologies are recalculated each year, based on updated financial and operational data. Western notifies customers in writing and posts updated rates to its Rates Web site: https://www.wapa.gov/regions/SN/rates/Pages/rates.aspx and the Open Access Same-Time Information Site: http://www.oasis.oati.com/wasn/index.html, as necessary.

¹ See 76 FR 56,906 (September 14, 2011).

² See U.S. Dept. of Energy, Western Area Power Admin., Docket No. EF11-9-000, 137 FERC ¶ 62,201 (2011).

In accordance with 10 CFR 903.23, Western determined it is not necessary to hold a public information or public comment forum. Western will post comments received to its Rates Web site, noted above, after the close of the comment period. Comments must be received by the end of the comment and consultation period to ensure they are considered by Western. After review of public comments, Western will take further action on the proposed formula rate extension consistent with 10 CFR 903.23.

Dated: August 18, 2015.
Mark A. Gabriel,
Administrator.

[FR Doc. 2015-20976 Filed 8-24-15; 8:45 am]

BILLING CODE 6450-01-P